DEPARTMENT OF ENERGY

Federal Energy Regulatory Commission

[Docket No. AD21-10-000]

Modernizing Electricity Market Design; Supplemental Notice of Technical Conference on Energy and Ancillary Services in the Evolving Electricity Sector

As first announced in the Notice of Technical Conference issued in this proceeding on July 14, 2021, the Federal Energy Regulatory Commission (Commission) will convene a staff-led technical conference in the above-referenced proceeding on October 12, 2021, from approximately 9:00 a.m. to 5:00 p.m. Eastern time. The conference will be held remotely. Attached to this Supplemental Notice is an agenda for the technical conference. Commissioners may attend and participate in the technical conference.

The conference will be open for the public to attend remotely. There is no fee for attendance. Information on this technical conference, including a link to the webcast, will be posted on the conference's event page on the Commission's website (https://www.ferc.gov/news-events/events/technical-conference-regarding-energy-and-ancillary-services-markets-10122021) prior to the event. The conference will be transcribed. Transcripts will be available for a fee from Ace Reporting (202-347-3700).

Commission conferences are accessible under section 508 of the Rehabilitation Act of 1973. For accessibility accommodations, please send an email to accessibility@ferc.gov or call toll free 1-866-208-3372 (voice) or 202-208-8659 (TTY), or send a fax to 202-208-2106 with the required accommodations.

For more information about this technical conference, please contact Emma Nicholson at emma.nicholson@ferc.gov or (202) 502-8741, or Alexander Smith at alexander.smith@ferc.gov or (202) 502-6601. For legal information, please contact Adam Eldean at adam.eldean@ferc.gov or (202) 502-8047. For information related to logistics, please contact Sarah McKinley at sarah.mckinley@ferc.gov or (202) 502-8368. This notice is issued and published in accordance with 18 CFR 2.1.

Dated: September 10, 2021.
Debbie-Anne A. Reese,
Deputy Secretary.

[FR Doc. 2021-20026 Filed 9-15-21; 8:45 am]

BILLING CODE 6717-01-P